DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on December 3, 2024. See Supplementary Information for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On December 3, 2024, OFAC determined that the property and interests in property subject to U.S. jurisdiction of the following persons are blocked under the relevant sanctions authority listed below.

BILLING CODE 4810-AL-P

Entities

BILLING CODE 4810-AL-C

On December 3, 2024, OFAC also identified the following vessels as property in which a blocked person has an interest under the relevant sanctions authority listed below.

Vessels

1. ELVA (S9A3) Crude Oil Tanker Sao Tome and Principe flag; Vessel Registration Identification IMO 9196644; MMSI 668116202 (vessel) [IRAN-EO13902] (Linked To: LUFINDO HOLDING LIMITED).

Identified as property in which LUFINDO HOLDING LIMITED, a person whose property and interests in property are blocked pursuant to E.O. 13902, has an interest.

2. LADY LUCY (a.k.a. DELPHI) (5LKL2) Chemical/Products Tanker Liberia flag; Vessel Registration Identification IMO 9341512; MMSI 636022783 (vessel) [IRAN-EO13902] (Linked To: CONSTELLATION MARITIME SERVICES LIMITED).

Identified as property in which CONSTELLATION MARITIME SERVICES LIMITED, a person whose property and interests in property are blocked pursuant to E.O. 13902, has an interest.

3. FT ISLAND (HQAI6) Crude Oil Tanker Honduras flag; Vessel Registration Identification IMO 9166675; MMSI 334017000 (vessel) [IRAN-EO13902] (Linked To: GAFFODIL CO., LIMITED).

Identified as property in which GAFFODIL CO., LIMITED, a person whose property and interests in property are blocked pursuant to E.O. 13902, has an interest.

4. JAYA (a.k.a. MONOCEROS) (V7A6410) Crude Oil Tanker Marshall Islands flag; Vessel Registration Identification IMO 9410387; MMSI 538010982 (vessel) [IRAN-EO13902] (Linked To: GALILEOS MARINE SERVICES L.L.C).

Identified as property in which GALILEOS MARINE SERVICES L.L.C, a person whose property and interests in property are blocked pursuant to E.O. 13902, has an interest.

5. MASAL (EPHO6) Crude Oil Tanker Iran flag; Vessel Registration Identification IMO 9169421; MMSI 422169700 (vessel) [IRAN-EO13902] (Linked To: OCEAN GLORY GIANT OGG SA).

Identified as property in which OCEAN GLORY GIANT OGG SA, a person whose property and interests in property are blocked pursuant to E.O. 13902, has an interest.

6. LARA II (3EQL7) Oil Products Tanker Panama flag; Vessel Registration Identification IMO 9321421; MMSI 374740000 (vessel) [IRAN-EO13902] (Linked To: VISION SHIP MANAGEMENT LLP).

Identified as property in which VISION SHIP MANAGEMENT LLP, a person whose property and interests in property are blocked pursuant to E.O. 13902, has an interest.

7. PHONIX (8RCY3) Crude Oil Tanker Guyana flag; Vessel Registration Identification IMO 9198317; MMSI 750308000 (vessel) [IRAN-EO13902] (Linked To: VISION SHIP MANAGEMENT LLP).

Identified as property in which VISION SHIP MANAGEMENT LLP, a person whose property and interests in property are blocked pursuant to E.O. 13902, has an interest.

8. RIO NAPO (E5U4369) Chemical/Oil Tanker Cook Islands flag; Vessel Registration Identification IMO 9256913; MMSI 518998389 (vessel) [IRAN-EO13902] (Linked To: VISION SHIP MANAGEMENT LLP).

Identified as property in which VISION SHIP MANAGEMENT LLP, a person whose property and interests in property are blocked pursuant to E.O. 13902, has an interest.

9. FIONA II (a.k.a. SELENE TRADER) (HPOE) Crude Oil Tanker Panama flag; Vessel Registration Identification IMO 9262766; MMSI 351073000 (vessel) [IRAN-EO13902] (Linked To: EUNOMIA LIMITED).

Identified as property in which EUNOMIA LIMITED, a person whose property and interests in property are blocked pursuant to E.O. 13902, has an interest.

10. VANITY (a.k.a. BLISSFUL SEA) (T7BL8) Crude Oil Tanker San Marino flag; Vessel Registration Identification IMO 9371608; MMSI 268241802 (vessel) [IRAN-EO13902] (Linked To: YURIMAGUAS LTD).

Identified as property in which YURIMAGUAS LTD, a person whose property and interests in property are blocked pursuant to E.O. 13902, has an interest.

11. YURI (a.k.a. SOMERSET) (E5U5230) Crude Oil Tanker Cook Islands flag; Vessel Registration Identification IMO 9235737; MMSI 518999249 (vessel) [IRAN-EO13902] (Linked To: YURIMAGUAS LTD).

Identified as property in which YURIMAGUAS LTD, a person whose property and interests in property are blocked pursuant to E.O. 13902, has an interest.

12. CERES I (S9U4) Crude Oil Tanker Sao Tome and Principe flag; Vessel Registration Identification IMO 9229439; MMSI 668116233 (vessel) [IRAN-EO13902] (Linked To: CERES SHIPPING LIMITED).

Identified as property in which CERES SHIPPING LIMITED, a person whose property and interests in property are blocked pursuant to E.O. 13902, has an interest.

13. TONIL (a.k.a. PARAGON DAWN) (3E2323) Crude Oil Tanker Panama flag; Vessel Registration Identification IMO 9307932; MMSI 352002482 (vessel) [IRAN-EO13902] (Linked To: LIGHTSHIP MANAGEMENT LTD).

Identified as property in which LIGHTSHIP MANAGEMENT LTD, a person whose property and interests in property are blocked pursuant to E.O. 13902, has an interest.

14. BLACK PANTHER (3EZT6) Chemical/Products Tanker Panama flag; Vessel Registration Identification IMO 9285756; MMSI 372988000 (vessel) [IRAN-EO13902] (Linked To: TIGHTSHIP SHIPPING MANAGEMENT (OPC) PRIVATE LIMITED).

Identified as property in which TIGHTSHIP SHIPPING MANAGEMENT (OPC) PRIVATE LIMITED, a person whose property and interests in property are blocked pursuant to E.O. 13902, has an interest.

15. LIONESS (3FLM9) Chemical/Products Tanker Panama flag; Vessel Registration Identification IMO 9285744; MMSI 353722000 (vessel) [IRAN-EO13902] (Linked To: TIGHTSHIP SHIPPING MANAGEMENT (OPC) PRIVATE LIMITED).

Identified as property in which TIGHTSHIP SHIPPING MANAGEMENT (OPC) PRIVATE LIMITED, a person whose property and interests in property are blocked pursuant to E.O. 13902, has an interest.

16. OLIVE (a.k.a. BLUE NIL) (E5U5271) Crude Oil Tanker Cook Islands flag; Vessel Registration Identification IMO 9288265; MMSI 518999290 (vessel) [IRAN-EO13902] (Linked To: TIGHTSHIP SHIPPING MANAGEMENT (OPC) PRIVATE LIMITED).

Identified as property in TIGHTSHIP SHIPPING MANAGEMENT (OPC) PRIVATE LIMITED, a person whose property and interests in property are blocked pursuant to E.O. 13902, has an interest.

17. MEROPE (3E2648) Crude Oil Tanker Panama flag; Vessel Registration Identification IMO 9281891; MMSI 352002495 (vessel) [IRAN-EO13902] (Linked To: SHANGHAI FUTURE SHIP MANAGEMENT CO LTD).

Identified as property in which SHANGHAI FUTURE SHIP MANAGEMENT CO LTD, a person whose property and interests in property are blocked pursuant to E.O. 13902, has an interest.

18. VERONICA III (3E2317) Crude Oil Tanker Panama flag; Vessel Registration Identification IMO 9326055; MMSI 352002475 (vessel) [IRAN-EO13902] (Linked To: SHANGHAI FUTURE SHIP MANAGEMENT CO LTD).

Identified as property in which SHANGHAI FUTURE SHIP MANAGEMENT CO LTD, a person whose property and interests in property are blocked pursuant to E.O. 13902, has an interest.

19. BERTHA (a.k.a. MONICA S) (E5U5084) Crude Oil Tanker Cook Islands flag; Vessel Registration Identification IMO 9292163; MMSI 518999103 (vessel) [IRAN-EO13902] (Linked To: SHANGHAI LEGENDARY SHIP MANAGEMENT COMPANY LIMITED).

Identified as property in which SHANGHAI LEGENDARY SHIP MANAGEMENT COMPANY LIMITED, a person whose property and interests in property are blocked pursuant to E.O. 13902, has an interest.

20. MIN HANG (E5U5075) Crude Oil Tanker Cook Islands flag; Vessel Registration Identification IMO 9257137; MMSI 518999094 (vessel) [IRAN-EO13902]

(Linked To: SHANGHAI LEGENDARY SHIP MANAGEMENT COMPANY LIMITED).

Identified as property in which SHANGHAI LEGENDARY SHIP MANAGEMENT COMPANY LIMITED, a person whose property and interests in property are blocked pursuant to E.O. 13902, has an interest.

21. VESNA (V3MD7) Crude Oil Tanker Belize flag; Vessel Registration Identification IMO 9233349; MMSI 312242000 (vessel) [IRAN-EO13902] (Linked To: SHANGHAI LEGENDARY SHIP MANAGEMENT COMPANY LIMITED).

Identified as property in which SHANGHAI LEGENDARY SHIP MANAGEMENT COMPANY LIMITED, a person whose property and interests in property are blocked pursuant to E.O. 13902, has an interest.

Lisa M. Palluconi,
Acting Director, Office of Foreign Assets Control.

[FR Doc. 2024-29286 Filed 12-11-24; 8:45 am]

BILLING CODE 4810-AL-P